DEPARTMENT OF ENERGY

Federal Energy Regulatory Commission

[Project No. 12058-002, Project No. 12686-001]

Baker County, OR; Notice of Project Number and Docket Change for the Proposed Mason Dam Hydroelectric Project

March 20, 2007.

On April 27, 2006, Baker County, Oregon filed a Notice of Intent and Pre-Application Document for the proposed Mason Dam Hydroelectric Project, initiating the pre-filing activities of the Commission's Integrated Licensing Process. On May 23, 2006, Baker County filed an application for a second preliminary permit to allow for continued study of the site. The Commission issued the new preliminary permit to Baker County on January 19, 2007.

As a result of the issuance of the new preliminary permit, the project number assigned to Baker County for the proposed Mason Dam Hydroelectric Project has changed. The new project number is P-12686. All future filings being made in regards to the ongoing pre-filing activities of the Integrated Licensing Process for the proposed project should use P-12686-001 to identify the filing. The original project number and docket (P-12058-002), assigned to this proceeding and the proposed project is now CLOSED.

All filings made to date, under P-12058-002 with regard to the pre-filing activities of the Commission's Integrated Licensing Process for the proposed Mason Dam Hydroelectric Project, will be cross referenced to the new project number and docket P-12686-001 and will continue to be part of the official public record. Therefore, re-filing of these documents is not necessary.

Philis J. Posey,
Acting Secretary.

[FR Doc. E7-5458 Filed 3-23-07; 8:45 am]

BILLING CODE 6717-01-P